DEPARTMENT OF THE INTERIOR

National Park Service

Notice of Availability of the Draft Environmental Impact Statement for the General Management Plan, Chattahoochee River National Recreation Area, GA

ACTION: Notice.

SUMMARY: Pursuant to section 102(2)(c) of the National Environmental Policy Act of 1969, 42 U.S.C. 4332(c), the National Park Service announces the availability of a draft Environmental Impact Statement and General Management Plan (DEIS/GMP) for the Chattahoochee River National Recreation Area, Georgia. This notice is being published in accordance with 40 CFR 1506.6.

The DEIS/GMP evaluates four alternatives for the park. The document describes and analyzes the environmental impacts of three action alternatives and a no-action action alternative. The no-action alternative would continue current management practices into the future. When approved, the plan will guide management actions during the next 15-20 years.

DATES: The National Park Service will accept comments from the public on the draft General Management Plan/Environmental Impact Statement for 60 days after publication of this notice. Public meetings have not been scheduled at this time but are anticipated to be conducted at various locations in the vicinity of the National Recreational Area during late spring of 2004. Public notice of the specific dates, times, and locations of the meetings will be provided in a newsletter, announced in local media, and posted on the Internet at http://www.nps.gov/chat/pphtml/news.html. Representatives of the National Park Service will be available at the public meeting to receive comments, concerns, and other input from the public related to the DEIS/GMP.

ADDRESSES: Copies of the DEIS/GMP are available from the Superintendent, Kevin Cheri, Chattahoochee River National Recreation Area, 1978 Island Ford Parkway, Atlanta, Georgia 30350-3400. Public reading copies of the DEIS/GMP will also be available for review at the following locations:

• Office of the Superintendent, Chattahoochee River National Recreation Area, 1978 Island Ford Parkway, Atlanta, Georgia 30350-3400. Telephone: 678-538-1210.

• Division of Planning and Compliance, Southeast Regional Office, National Park Service, Attention: David Libman, 100 Alabama Street, 1924 Building, Atlanta, Georgia 30303. Telephone: 404-562-3124, ext. 685.

• An electronic copy of DEIS/GMP is available for download in .pdf format on the Internet at http://planning.nps.gov/plans.cfm under the Chattahoochee River National Recreation Area section.

FOR FURTHER INFORMATION CONTACT: Kevin Cheri, Superintendent, Chattahoochee River National Recreation Area, 1978 Island Ford Parkway, Atlanta, Georgia 30350-3400. Telephone: 678-538-1210.

SUPPLEMENTARY INFORMATION: If you wish to comment, you may submit your comments by any one of several methods. You may mail comments to Chattahoochee River National Recreation Area, Superintendent, 1978 Island Ford Parkway, Atlanta, GA 30350-3400.

You may also comment via the Internet by going to the Chattahoochee River NRA Web site at http://www.nps.gov/chat and selecting the “Contact Us” link. Please submit Internet comments as a plain text file avoiding the use of special characters and any form of encryption. Please also include “Attn: General Management Plan Team” and your name and return address in your Internet message. If you do not receive a confirmation from the system that we have received your Internet message, contact the park directly at Chattahoochee River National Recreation Area, Phone 678-538-1210. Finally, you may hand-deliver comments to the Superintendent, Chattahoochee River NRA at 1978 Island Ford Parkway, Atlanta, GA 30350-3400.

Please note that names and addresses of people who comment become part of the public record. Anonymous comments will not be considered. Individual respondents may request that we withhold their home address from the record, which we will honor to the extent allowable by law. There also may be circumstances in which we would withhold from the record a respondent's identity, as allowable by law. If you wish us to withhold your name and/or address, you must state this prominently at the beginning of your comments. We will make all submissions from organizations or businesses, and from individuals identifying themselves as representatives or officials of organizations or businesses, available for public inspection in their entirety.

The responsible official for this Environmental Impact Statement is Patricia A. Hooks, Regional Director, Southeast Region, National Park Service, 100 Alabama Street, SW., 1924 Building, Atlanta, Georgia 30303.

Dated: April 12, 2004.
Patricia A. Hooks,
Regional Director, Southeast Region.

[FR Doc. 04-12743 Filed 6-4-04; 8:45 am]

BILLING CODE 4312-52-M